DEPARTMENT OF THE TREASURY

Submission for OMB Review; Comment Request

September 29, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 6, 2006 to be assured of consideration.

Internal Revenue Service (IRS)

OMB Number: 1545-1680.

Type of Review: Extension.

Title: United States Additional Estate Tax Return Under Code Section 2057.

Forms: 706-D.

Description: Form 706-D is used by individuals to compute and pay the additional taxes due under Code section 2057. IRS uses the information to determine that the taxes have been properly computed.

Respondents: Individuals or households.

Estimated Total Burden Hours: 530 hours.

OMB Number: 1545-0118.

Type of Review: Extension.

Title: Taxable Distributions Received From Cooperatives.

Forms: 1099-PATR.

Description: Form 1099-PATR is used to report patronage dividends paid by cooperatives (IRC sec. 6044). The information is used by IRS to verify reporting compliance on the part of the recipient.

Respondents: Business or other for profit institutions.

Estimated Total Burden Hours: 509,895 hours.

OMB Number: 1545-0054.

Type of Review: Extension.

Title: Ownership Certificate.

Forms: 1000.

Description: Form 1000 is used by citizens, resident individuals, fiduciaries, partnerships and nonresident partnerships in connection with interest on bonds of a domestic, resident foreign, or nonresident foreign corporation containing a tax-free covenant and issued before January 1, 1934. IRS uses the information to verify that the correct amount of tax was withheld.

Respondents: Business or other for profit institutions.

Estimated Total Burden Hours: 5,040 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-16541 Filed 10-5-06; 8:45 am]

BILLING CODE 4830-01-P